DEPARTMENT OF ENERGY

Federal Energy Regulatory Commission

Combined Notice of Filings #1

April 12, 2010.

Take notice that the Commission received the following electric corporate filings:

Docket Numbers: EC10-49-000.

Applicants: GWF Energy LLC.

Description: Supplemental Information Supporting Section 203 Application for Authorization for Disposition of Jurisdictional Facilities and Request for Privileged Treatment of GWF Energy LLC.

Filed Date: 04/07/2010.

Accession Number: 20100407-5076.

Comment Date: 5 p.m. Eastern Time on Thursday, April 22, 2010.

Take notice that the Commission received the following electric rate filings:

Docket Numbers: ER97-324-018; ER97-3834-024.

Applicants: The Detroit Edison Company.

Description: The Detroit Edison Co et al. submits a compliance filing, Attachment A.

Filed Date: 04/09/2010.

Accession Number: 20100409-0211.

Comment Date: 5 p.m. Eastern Time on Friday, April 30, 2010.

Docket Numbers: ER02-862-013.

Applicants: Entergy Power Ventures, L.P.

Description: Entergy Power Ventures, LP submits an amendment to their application requesting Category 1 Seller designation, etc.

Filed Date: 04/09/2010.

Accession Number: 20100412-0203.

Comment Date: 5 p.m. Eastern Time on Friday, April 30, 2010.

Docket Numbers: ER07-312-006.

Applicants: Dogwood Energy LLC.

Description: Supplemental Filing to Market Power Update of Dogwood Energy LLC.

Filed Date: 04/09/2010

Accession Number: 20100409-5126.

Comment Date: 5 p.m. Eastern Time on Friday, April 30, 2010.

Docket Numbers: ER10-468-002.

Applicants: Google Energy LLC.

Description: Google Energy LLC submits substitute FERC Electric Tariff, Volume No. 1.

Filed Date: 04/06/2010.

Accession Number: 20100406-0208.

Comment Date: 5 p.m. Eastern Time on Tuesday, April 27, 2010.

Docket Numbers: ER10-715-003.

Applicants: Llano Estacodo Wind, LLC.

Description: Llano Estacado Wind, LLC submits an amendment to their updated market power analysis to support the continued allowance of market-based rates.

Filed Date: 04/09/2010.

Accession Number: 20100412-0202.

Comment Date: 5 p.m. Eastern Time on Friday, April 30, 2010.

Docket Numbers: ER10-820-001.

Applicants: The Detroit Edison Company.

Description: Detroit Edison Company submits a First Revised Sheet 1 to its FERC Electric Tariff, Original Volume 2—Notice of Cancellation.

Filed Date: 04/09/2010.

Accession Number: 20100409-0216.

Comment Date: 5 p.m. Eastern Time on Friday, April 30, 2010.

Docket Numbers: ER10-881-001

Applicants: Reliable Power, LLC.

Description: Reliable Power, LLC submits an Amendment to Application for Market-Based Rate Authority.

Filed Date: 04/09/2010.

Accession Number: 20100409-0208.

Comment Date: 5 p.m. Eastern Time on Friday, April 30, 2010.

Docket Numbers: ER10-1036-000.

Applicants: Midwest Independent Transmission System Operator, Inc.

Description: Midwest Independent Transmission System Operator, Inc submits an Generator Interconnection Agreement.

Filed Date: 04/09/2010.

Accession Number: 20100409-0210.

Comment Date: 5 p.m. Eastern Time on Friday, April 30, 2010.

Docket Numbers: ER10-1037-000.

Applicants: Xcel Energy Services Inc.

Description: Northern States Power Company-Minnesota submits a proposed termination of the Market Interface Integration Services Agreement, as amended, Rate Schedule FERC 600 with Tatanka Wind Power LLC.

Filed Date: 04/09/2010.

Accession Number: 20100412-0201.

Comment Date: 5 p.m. Eastern Time on Friday, April 30, 2010.

Take notice that the Commission received the following electric securities filings:

Docket Numbers: ES10-30-000.

Applicants: Southern Indiana Gas & Electric Company.

Description: Amendment to Application of Southern Indiana Gas & Electric Company for Authority to Issue Short-Term Debt and Request for Shortened Comment Period.

Filed Date: 04/12/2010.

Accession Number: 20100412-5037.

Comment Date: 5 p.m. Eastern Time on Thursday, April 22, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-9438 Filed 4-22-10; 8:45 am]

BILLING CODE 6717-01-P